ARCHITECTURAL AND TRANSPORTATION BARRIERS COMPLIANCE BOARD

36 CFR Part 1195

[Docket No. ATBCB-2023-0001]

RIN 3014-AA45

Standards for Accessible Medical Diagnostic Equipment

AGENCY: Architectural and Transportation Barriers Compliance Board.

ACTION: Notice of proposed rulemaking; extension of comment period.

SUMMARY: The Architectural and Transportation Barriers Compliance Board (hereafter, “Access Board” or “Board”), is extending the comment period for the Notice of Proposed Rulemaking on Standards for Accessible Medical Diagnostic Equipment published in the Federal Register on May 23, 2023. In that document, the Access Board requested comments by July 24, 2023. The Access Board is taking this action to allow interested parties additional time to submit comments.

DATES: The comment period for the notice of proposed rulemaking published on May 23, 2023, at 88 FR 33056, is extended. Comments should be received on or before August 31, 2023.

ADDRESSES: You may submit comments by any one of the following methods:

• Federal eRulemaking Portal: http://www.regulations.gov. Follow the instructions for submitting comments.

• Email: docket@access-board.gov. Include docket number ATBCB-2023-0001 in the subject line of the message.

• Mail: Office of General Counsel, U.S. Access Board, 1331 F Street NW, Suite 1000, Washington, DC 20004-1111.

Instructions: All submissions must include the docket number (ATBCB-2023-0001) for this regulatory action. All comments received will be posted without change to http://www.regulations.gov, including any personal information provided.

Docket: For access to the docket to read background documents or comments received, go to https://www.regulations.gov/docket/ATBCB-2023-0001.

FOR FURTHER INFORMATION CONTACT: Accessibility Specialist Bobby Stinnette, (202) 272-0021, stinnette@access-board.gov; or Attorney Advisor Wendy Marshall, (202) 272-0043, marshall@access-board.gov.

SUPPLEMENTARY INFORMATION: On May 23, 2023, the Access Board issued a notice of proposed rulemaking to remove the sunset provisions in the Board's existing accessibility guidelines for medical diagnostic equipment related to the low-height specifications for transfer surfaces, and replace them with a final specification for the low-transfer-height of medical diagnostic equipment used in the supine, prone, and side-lying position and the seated position. See 88 FR 33056 (May 23, 2023).

On July 19, 2023, the Medical Imaging & Technology Alliance requested a 60-day extension of the comment period for additional time to submit their comments due to the “technical and engineering considerations and potential impact on device design.”

Although the Access Board has already provided a 60-day comment period and held a public informational meeting regarding our research on low transfer height on May 12, 2022, the Access Board will provide additional time for the public to submit comments. However, the Board believes that an additional 30 days, providing a total of a 90-day comment period is sufficient.

Christopher Kuczynski,
General Counsel.

[FR Doc. 2023-16218 Filed 7-31-23; 8:45 am]

BILLING CODE 8150-01-P